OFFICE OF THE UNITED STATES TRADE REPRESENTATIVE

Opportunity To Apply for Membership on the 2004 U.S.-Japan Private Sector/Government Commission

AGENCY: Office of the United States Trade Representative (USTR).

ACTION: Notice of membership opportunity.

SUMMARY: The U.S. Government is seeking letters of interest for private sector membership on the U.S. side of the U.S.-Japan Private Sector/Government Commission (Commission) for 2004. President Bush and Japanese Prime Minister Koizumi launched the Commission in June 2001 as part of the U.S.-Japan Economic Partnership for Growth (Partnership). It is expected the 2004 Commission meeting will be held in mid-2004 on the topic of “Advancing U.S.-Japan Economic Cooperation.”

DATES: In order to receive full consideration, letters of interest must be received by the U.S. Government Secretariat no later than April 27, 2004.

ADDRESSES: Please send requests for consideration by facsimile or express mail to only the U.S. Government Secretariat for the U.S.-Japan Private Sector/Government Commission in care of Karin Ryerson, Office of Japan, U.S. Department of Commerce, Room 2320, 14th Street and Constitution Avenue, NW., Washington, DC 20230, facsimile (202) 482-0469. Requests sent by e-mail will not be considered. Candidates chosen for membership will be notified in writing.

SUPPLEMENTARY INFORMATION:

Introduction

The U.S. Government seeks letters of interest for private sector membership on the U.S. side of the 2004 U.S.-Japan Private Sector/Government Commission. President Bush and Japanese Prime Minister Koizumi launched the Commission in June 2001 as part of the Partnership. The Commission is made up of U.S. and Japanese Government and private sector representatives. It aims to integrate the U.S. and Japanese private sectors more fully into the economic work of the two Governments. The Commission enables U.S. and Japanese private sector representatives to present input—including expertise, observations, and recommendations—on an agenda topic agreed to in advance by the two Governments. For a description of the goals and structure of the Commission and the Partnership, see the Annex to the Joint Statement by President Bush and Prime Minister Koizumi on June 30, 2001, on the Department of Commerce Web site at: http://www.mac.doc.gov/japan/source/menu/partnership/partnership2.html.

Topic

The Commission topic is selected annually. This year's topic is “Advancing U.S.-Japan Economic Cooperation.” It focuses on how the United States and Japan can most effectively work together to meet the emerging challenges facing the global economy. Discussions would center on greater cooperation in key areas that would include: Developing methods to ensure that goods and services can flow across borders as smoothly and securely as possible; fostering economic growth through new technologies; identifying structural and regulatory reforms that would expand business opportunities, increase market access, and promote a more entrepreneurial business climate; and achieving stronger intellectual property protection.

Duties and Responsibilities of Private Sector Members

Private sector individuals chosen for the Commission will be expected to be fully involved in all necessary preparatory meetings and attend the Commission's annual 2004 meeting. That meeting is expected to be held in mid-2004 in conjunction with a Subcabinet meeting of U.S. and Japanese Government officials at the Deputy/Vice-Ministerial level from key economic agencies and ministries and other agencies and ministries appropriate to the Commission's topic. The number of private sector Commission members will be limited and will be determined in coordination with the Japanese Government. Members of the private sector delegation from the United States will serve for one term. Members who wish to serve additional terms must apply under the same rules as other future prospective members.

Private sector members are fully responsible for travel, lodging and personal expenses associated with their participation in the Commission. They will receive no compensation. The private sector members will serve in a representative capacity, presenting the views and interests of the particular business sector in which they operate; private sector members are not special government employees. Candidates will be vetted for pending business before USTR and the Department of Commerce. Members from the private sector will be chosen based on criteria set forth in this Notice. Substitutions will not be permitted if a successful candidate is unable to fulfill his or her Commission duties.

Candidate Eligibility and Selection Procedures

The process for recruiting and selecting Commission members from the U.S. private sector is based on objective, written criteria developed in accordance with the Annex to the Joint Statement by President Bush and Prime Minister Koizumi. To be eligible for consideration, each candidate must be a U.S. citizen, be employed by a U.S. company,¹ and not be a registered foreign agent under the Foreign Agents Registration Act of 1938.

¹ A U.S. company is defined in the Procedures and Rules for Industry Sector Advisory Committees as a firm incorporated in the United States (or an unincorporated U.S. firm with its principal places of business in the United States) that is controlled by U.S. citizens or by another U.S. entity. An entity is not a U.S. company if 50 percent plus one share of its stock (if a corporation, or a similar ownership interest of an unincorporated entity) is controlled, directly or indirectly, by non-U.S. citizens or non-U.S. entities. If the candidate is to represent an entity or corporation with 10 percent or greater non-U.S. ownership, the candidate must demonstrate at the time of selection that this ownership interest does not constitute control and will not adversely affect his or her ability to serve on the Commission.

All requests for consideration will be reviewed by the U.S. Government Secretariat (Secretariat) for the Commission, which is composed of officials from USTR and the Department of Commerce. Members of the Secretariat will evaluate each submission based on the evaluation criteria provided below and recommend a roster of candidates to the Assistant USTR for North Asian Affairs and the Department of Commerce's Assistant Secretary for Market Access and Compliance (Selecting Officials). These Selecting Officials will review the Secretariat's recommendations and make the final determination on which candidates will be selected for the 2004 Commission.

Submission Procedures and Evaluation Criteria

To be considered for Commission membership, prospective candidates must submit a personal resume and a letter of interest on company letterhead that provides the information and responds directly to the criteria outlined below. Please limit submissions to these materials, which must be submitted by individual candidates and not by proxy. Referrals from political organizations and any references to political contributions or other partisan political activities will not be considered in the selection process. The following criteria will be considered:

• Stated reasons the candidate wishes to be considered for the Commission;

• Experience in executive-level positions, such as CEO of U.S. companies;

• Experience doing business with or in Japan;

• Expertise in the topic to be considered by the 2004 Commission;

• Commitment to undertake any necessary preparatory work and to participate in any preparatory meetings and the annual Commission meeting;

• Commitment to assume the costs of travel, lodging and other personal expenses related to Commission participation;

• Contributions to Commission membership diversity based on company size, type, and location; and

• Other considerations relevant to the Commission as described in the Annex to the Joint Statement by President Bush and Prime Minister Koizumi.

Other required information that must be included in the application materials by candidates are:

• Name and title of the individual requesting consideration;

• Name and address of the company where the candidate is employed;

• The particular business sector the candidate would represent;

• Company's product or service line;

• Company size (market capitalization, annual revenues, number of employees); and

• Company's experience in Japan (exports, sales, employees, years in Japan).

FOR FURTHER INFORMATION CONTACT: Karin Ryerson, Office of Japan, Department of Commerce, Room 2320, 14th Street and Constitution Avenue, NW., Washington, DC 20230, facsimile (202) 482-0469; or John Neuffer, Office of North Asian Affairs, Office of the U.S. Trade Representative, 600 17th Street, NW., Washington, DC 20508, facsimile (202) 395-3597.

Dated: March 16, 2004.
Wendy Cutler,
Assistant United States Trade Representative for North Asian Affairs.

[FR Doc. 04-6267 Filed 3-19-04; 8:45 am]

BILLING CODE 3190-W3-P